DEPARTMENT OF COMMERCE

Foreign-Trade Zones Board

(Docket 50-2005)

Foreign-Trade Zone 38 Greenville-Spartanburg, SC, Application for Subzone Status, Benteler Automotive Corporation Plant (Automotive Suspension Components), Duncan, South Carolina

An application has been submitted to the Foreign-Trade Zones Board (the Board) by the South Carolina State Ports Authority, grantee of FTZ 38, requesting special-purpose subzone status for the automotive suspension components manufacturing plant of Benteler Automotive Corporation (BAC)(a subsidiary of Benteler AG, of Germany) located in Duncan, South Carolina. The application was submitted pursuant to the provisions of the Foreign-Trade Zones Act, as amended (19 U.S.C. 81a-81u), and the regulations of the Board (15 CFR Part 400). It was formally filed on October 17, 2005.

The BAC plant (32 acres/191,000 sq. ft.) is located at 1255 Howell Road in Duncan (Spartanburg County), South Carolina. The facility (130 employees) is used to produce front and rear suspension subassemblies and modules for automobiles and light trucks (up to 250,000 units annually) for export and the domestic market. The manufacturing process at the facility involves machining, assembly, coating, and testing, using domestic and foreign-origin inputs. Components that are, or may be, purchased from abroad (representing about 40% of total, by value) used in manufacturing include: pressure hoses, steering components, stabilizer bars, bushings, brackets, ARS active stabilizers and motors, active steering systems, fasteners, steering knuckles, sensors (ABS, wheel speed, height), drive shafts, differentials, links, shock absorbers, supports, retainers, inner tubes, rotors, calipers, shields, brake hoses, brake shoes, electronic damping controllers, ball joints, electro-mechanical brake components, springs, seals, adjuster screws, stabilizers, and motors (duty rate range: free - 4.5%).

FTZ procedures would exempt BAC from Customs duty payments on the foreign components used in production for export to non-NAFTA countries. On domestic shipments transferred in-bond to U.S. automobile assembly plants with subzone status, no duties would be paid on the foreign components used in automobile and light truck production until the finished vehicles are formally entered for consumption, at which time the finished automobile duty rate (2.5%) would be applied to the foreign-origin components. For the individual suspension components and subassemblies withdrawn directly by BAC for Customs entry, the finished automotive part rate (2.5%) could be applied to the foreign inputs noted above. The application indicates that subzone status would help improve the facility's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building 4100W, 1099 14th Street, NW, Washington, DC 20005; or,

2. Submissions via the U.S. Postal Service: Foreign-Trade Zones Board, U.S. Department of Commerce, FCB 4100W, 1401 Constitution Ave., NW, Washington, DC 20230.

The closing period for their receipt is December 23, 2005. Rebuttal comments in response to material submitted during the foregoing period may be submitted during the subsequent 15-day period (to January 9, 2006.

A copy of the application will be available for public inspection at the Office of the Foreign-Trade Zones Board's Executive Secretary at address No.1 listed above and at the Office of the Port Director, U.S. Customs and Border Protection, 150-A West Phillips Road, Greer, SC 29650.

Dated: October 17, 2005.
Dennis Puccinelli,
Executive Secretary,

[FR Doc. 05-21216 Filed 10-21-05; 8:45 am]

Billing Code: 3510-DS-S